DEPARTMENT OF LABOR

Mine Safety and Health Administration

Petitions for Modification

AGENCY: Mine Safety and Health Administration (MSHA), Labor.

ACTION: Notice of petitions for modification of existing mandatory safety standards.

SUMMARY: Section 101(c) of the Federal Mine Safety and Health Act of 1977 and 30 CFR Part 44 govern the application, processing, and disposition of petitions for modification. This notice is a summary of petitions for modification filed by the parties listed below to modify the application of existing mandatory safety standards published in Title 30 of the Code of Federal Regulations.

DATES: All comments on the petitions must be received by the Office of Standards, Regulations and Variances on or before April 16, 2010.

ADDRESSES: You may submit your comments, identified by “docket number” on the subject line, by any of the following methods:

1. Electronic Mail: Standards-Petitions@dol.gov.

2. Facsimile: 1-202-693-9441.

3. Regular Mail: MSHA, Office of Standards, Regulations and Variances, 1100 Wilson Boulevard, Room 2350, Arlington, Virginia 22209-3939, Attention: Patricia W. Silvey, Director, Office of Standards, Regulations and Variances.

4. Hand-Delivery or Courier: MSHA, Office of Standards, Regulations and Variances, 1100 Wilson Boulevard, Room 2350, Arlington, Virginia 22209-3939, Attention: Patricia W. Silvey, Director, Office of Standards, Regulations and Variances.

MSHA will consider only comments postmarked by the U.S. Postal Service or proof of delivery from another delivery service such as UPS or Federal Express on or before the deadline for comments. Individuals who submit comments by hand-delivery are required to check in at the receptionist desk on the 21st floor.

Individuals may inspect copies of the petitions and comments during normal business hours at the address listed above.

FOR FURTHER INFORMATION CONTACT: Barbara Barron, Office of Standards, Regulations and Variances at 202-693-9447 (Voice), barron.barbara@dol.gov (E-mail), or 202-693-9441 (Telefax). [These are not toll-free numbers.]

SUPPLEMENTARY INFORMATION:

I. Background

Section 101(c) of the Federal Mine Safety and Health Act of 1977 (Mine Act) allows the mine operator or representative of miners to file a petition to modify the application of any mandatory safety standard to a coal or other mine if the Secretary determines that: (1) An alternative method of achieving the result of such standard exists which will at all times guarantee no less than the same measure of protection afforded the miners of such mine by such standard; or (2) that the application of such standard to such mine will result in a diminution of safety to the miners in such mine. In addition, the regulations at 30 CFR 44.10 and 44.11 establish the requirements and procedures for filing petitions for modification.

II. Petitions for Modification

Docket Number: M-2010-005-C.

Petitioner: Manalapan Mining Co., Inc., 8174 East Highway 72, Pathfork, Kentucky 40863.

Mine: RB #12 Mine, MSHA I.D. No. 15-18771, located in Harlan County, Kentucky.

Regulation Affected: 30 CFR 75.507-1(a) (Electric equipment other than power-connection points; outby the last open crosscut; return air; permissibility requirements).

Modification Request: The petitioner requests a modification of the existing standard to permit an increase in the maximum length of trailing cables supplying power to permissible pumps. The petitioner states that: (1) This petition will apply only to trailing cables supplying three-phase, 480-volt power for permissible pumps; (2) the maximum length of 480-volt power for permissible pumps will be 1,800 feet; (3) the 480-volt power for permissible pump trailing cables will be no smaller than #10 American Wire Gauge (AWG); (4) all circuit breakers used to protect trailing cables exceeding the pump approval length or Table 9 of part 18, will have an instantaneous trip unit calibrated to trip at 70% of phase to phase short circuit current. The trip setting of these circuit breakers will be sealed or locked, and these circuit breakers will have permanent, legible labels. Each label will identify the circuit breaker as being suitable for protecting the trailing cables and be maintained legible. In instances where a 70% instantaneous setpoint will not allow a pump to start, due to motor inrush, a thermal magnetic breaker will be furnished. The thermal rating of the circuit breaker will be no greater than 70% of the available short circuit current and the instantaneous setting will be adjusted to one setting above the motor inrush trip point. This setting will also be sealed or locked; (5) replacement instantaneous trip units, used to protect pump trailing cables exceeding the length of item #4, will be calibrated to trip at 70% of the available phase to phase short circuit current and this setting will be sealed or locked; (6) permanent warning labels will be installed and maintained on the cover(s) of the power center to identify the location of each sealed or locked short-circuit protection device. These labels will warn miners not to change or alter these short circuit settings; (7) all future pump installations with excessive cable lengths will have a short-circuit survey conducted and items 1-6 will be implemented. A copy of each pump's short-circuit survey will be available at the mine site for inspection; (8) the petitioner's alternative method will not be implemented until miners who have been designated to examine the integrity of seals or locks, verify the short-circuit settings, and proper procedures for examining trailing cables for defects and damage have received the elements of training herein; and (9) within sixty (60) days after this petition is granted, proposed revisions for approved 30 CFR Part 48 training plans will be submitted to the District Manager for the area in which the mine is located. The training will include the following elements: (a) Training in mining methods and operating procedures that will protect the trailing cables against damage; (b) training in the proper procedures for examining the trailing cables to ensure the cables are in safe operating condition; (c) training in hazards of setting the instantaneous circuit breakers too high to adequately protect the trailing cables; and (d) training in how to verify the circuit interrupting device(s) protecting the trailing cable(s) are properly set and maintained. The petitioner asserts that the procedures of 30 CFR 48.3 for approval of proposed revisions to already approved training plans will apply, and that the proposed alternative method will at all times guarantee no less than the same measure of protection to all miners at Manalapan Mining Company, Inc., provided by the existing standards.

Docket Number: M-2010-006-C.

Petitioner: Armstrong Coal Company, Inc., 407 Brown Road, Madisonville, Kentucky 42341.

Mine: Parkway Mine, MSHA I. D. No. 15-19358, located in Muhlenberg County, Kentucky.

Regulation Affected: 30 CFR 75.1101-1(b) (Deluge-type water spray systems).

Modification Request: The petitioner requests a modification of the existing standard to eliminate the requirement that deluge-type water spray system nozzles be provided with blow-off dust covers. The petitioner proposes to conduct weekly examinations and weekly functional testing of the deluge-type water spray systems. Specifically, the petitioner proposes that the alternative method consist of the following requirements: (a) Once every seven (7) days, a person trained in the testing procedures specific to the deluge-type water spray systems utilized at each belt drive will: (i) Conduct a visual examination of each of the deluge-type water spray systems; (ii) conduct a functional test of the deluge-type water spray systems by actuating the system and observing its performance; and (iii) record the results of the visual examination and functional test in a book maintained on the surface for that purpose. The record will be made available to the authorized representative of the Secretary of Labor (the “Secretary”) and retained at the mine for one year; (b) a clogged nozzle or any other malfunction detected as a result of the weekly visual examination and functional test will be corrected immediately; and (c) the procedure used to perform the functional test will be posted at or near each belt drive that utilizes a deluge-type water spray system. The petitioner states that: (1) The alternative method provides for weekly functional testing of the deluge-type water spray system while 30 CFR 75.1101-11 requires only yearly functional testing; (2) the alternative method greatly increases frequency of testing, which flushes out the entire system and better assures that the nozzles are not plugged with debris; and (3) eliminating the blow-off dust covers ensures that they do not become corroded and resist blowing off when actuated. The petitioner asserts that the proposed alternative method will all times guarantee no less than the same measure of protection afforded by the existing standard.

Docket Number: M-2010-007-C.

Petitioner: Blue Diamond Coal Company, P.O. Box 47, Slemp, Kentucky 41763.

Mine: No. 75 Mine, MSHA I.D. No. 15-17478, located in Perry County, Kentucky.

Regulation Affected: 30 CFR 75.503 (Permissible electric face equipment; maintenance).

Modification Request: The petitioner requests a modification of the existing standard to permit an increase in the maximum length of trailing cables supplying power to permissible pumps. The petitioner states that: (1) This petition will apply only to trailing cables supplying three-phase, 480-volt power for permissible pumps; (2) the maximum length of the 480-volt power for permissible pumps will be 4,000 feet; (3) all circuit breakers used to protect trailing cables exceeding the pump approval length or Table 9 of Part 18 will have an instantaneous trip unit calibrated to trip at 75% of phase to phase short-circuit current. The trip setting of these circuit breakers will be sealed or locked, and will have permanent, legible labels. Each label will identify the circuit breaker as being suitable for protecting the trailing cables, and the label will be maintained legible. In instances where 75% instantaneous set point will not allow a pump to start due to motor inrush, a thermal magnetic breaker will be furnished. The thermal rating of the circuit breaker will be no greater than 75% of the available short-circuit current and the instantaneous setting will be adjusted one setting above the motor inrush trip point. This setting will also be sealed or locked; (4) replacement instantaneous trip units used to protect pump trailing cables exceeding the length of item #4 will be calibrated to trip at 75% of the available phase to phase short-circuit current and this setting will be sealed or locked; (5) permanent warning labels will be installed and maintained on the cover(s) of the power center to identify the location of each sealed or locked short-circuit protection device. These labels will warn miners not to change or alter these short-circuit settings; (6) all future pump installation with excessive cable lengths will have a short-circuit survey conducted and items 1-6 will be implemented. A copy of each pumps short-circuit survey will be available at the mine site for inspection; (7) the petitioner's alternative method will not be implemented until miners who have been designated to examine the integrity of seals or locks, verify the short-circuit settings, and proper procedures for examining trailing cables for defects and damage have received the elements of training herein; and (8) within sixty (60) days after this petition is granted, proposed revisions for approved 30 CFR Part 48 training plan will be submitted to the District Manager for the area in which the mine is located. The training will include the following elements: (a) Training in mining methods and operating procedures that will protect the trailing cables against damage; (b) training in the proper procedures for examining the trailing cables to ensure the cables are in safe operating condition; (c) training in hazards of settings the instantaneous circuit breakers too high to adequately protect the trailing cables; and (d) training in how to verify the circuit interrupting device(s) protecting the trailing cable(s) are properly set and maintained. The petitioner asserts that the procedures of 30 CFR 48.3 for approval of proposed revisions to already approved training plans will apply, and the proposed alternative method will at all times guarantee no less than the same measure of protection to all miners at Blue Diamond Coal Company provided by the existing standard.

Docket Number: M-2010-008-C.

Petitioner: Blue Diamond Coal Company, P.O. Box 47, Slemp, Kentucky 41763.

Mine: No. 77 Mine, MSHA I. D. No. 15-09636, located in Perry County, Kentucky.

Regulation Affected: 30 CFR 75.503 (Permissible electric face equipment; maintenance).

Modification Request: The petitioner requests a modification of the existing standard to permit an increase in the maximum length of trailing cables supplying power to permissible pumps. The petitioner states that: (1) This petition will apply only to trailing cables supplying three-phase, 480-volt power for permissible pumps; (2) the maximum length of the 480-volt power for permissible pumps will be 4,000 feet; (3) all circuit breakers used to protect trailing cables exceeding the pump approval length or Table 9 of Part 18 will have an instantaneous trip unit calibrated to trip at 75% of phase to phase short-circuit current. The trip setting of these circuit breakers will be sealed or locked, and will have permanent, legible labels. Each label will identify the circuit breaker as being suitable for protecting the trailing cables, and the label will be maintained legible. In instances where 75% instantaneous set point will not allow a pump to start due to motor inrush, a thermal magnetic breaker will be furnished. The thermal rating of the circuit breaker will be no greater than 75% of the available short-circuit current and the instantaneous setting will be adjusted one setting above the motor inrush trip point. This setting will also be sealed or locked; (4) replacement instantaneous trip units used to protect pump trailing cables exceeding the length of item #4 will be calibrated to trip at 75% of the available phase to phase short-circuit current and this setting will be sealed or locked; (5) permanent warning labels will be installed and maintained on the cover(s) of the power center to identify the location of each sealed or locked short-circuit protection device. These labels will warn miners not to change or alter these short-circuit settings; (6) all future pump installations with excessive cable lengths will have a short circuit survey conducted and items 1-6 will be implemented. A copy of each pumps short-circuit survey will be available at the mine site for inspection; (7) the petitioner's alternative method will not be implemented until miners who have been designated to examine the integrity of seals or locks, verify the short-circuit settings, and proper procedures for examining trailing cables for defects and damage have received the elements of training herein; and (8) within sixty (60) days after this petition is granted, proposed revisions for approved 30 CFR Part 48 training plan will be submitted to the District Manager for the area in which the mine is located. The training will include the following elements: (a) Training in mining methods and operating procedures that will protect the trailing cables against damage; (b) training in the proper procedures for examining the trailing cables to ensure the cables are in safe operating condition; (c) training in hazards of settings the instantaneous circuit breakers too high to adequately protect the trailing cables; and (d) training in how to verify the circuit interrupting device(s) protecting the trailing cable(s) are properly set and maintained. The petitioner asserts that the procedures of 30 CFR 48.3 for approval of proposed revisions to already approved training plans will apply, and the proposed alternative method will at all times guarantee no less than the same measure of protection to all miners at Blue Diamond Coal Company provided by the existing standard.

Docket Number: M-2010-009-C.

Petitioner: Blue Diamond Coal Company, P.O. Box 47, Slemp, Kentucky 41763.

Mine: No. 81 Mine, MSHA I. D. No. 15-12753, located in Leslie County, Kentucky.

Regulation Affected: 30 CFR 75.503 (Permissible electric face equipment; maintenance).

Modification Request: The petitioner requests a modification of the existing standard to permit an increase in the maximum length of trailing cables supplying power to permissible pumps. The petitioner states that: (1) This petition will apply only to trailing cables supplying three-phase, 480-volt power for permissible pumps; (2) the maximum length of the 480-volt power for permissible pumps will be 4,000 feet; (3) all circuit breakers used to protect trailing cables exceeding the pump approval length or Table 9 of Part 18 will have an instantaneous trip unit calibrated to trip at 75% of phase to phase short-circuit current. The trip setting of these circuit breakers will be sealed or locked, and will have permanent, legible labels. Each label will identify the circuit breaker as being suitable for protecting the trailing cables, and the label will be maintained legible. In instances where 75% instantaneous set point will not allow a pump to start due to motor inrush, a thermal magnetic breaker will be furnished. The thermal rating of the circuit breaker will be no greater than 75% of the available short-circuit current and the instantaneous setting will be adjusted one setting above the motor inrush trip point. This setting will also be sealed or locked; (4) replacement instantaneous trip units used to protect pump trailing cables exceeding the length of item #4 will be calibrated to trip at 75% of the available phase to phase short-circuit current and this setting will be sealed or locked; (5) permanent warning labels will be installed and maintained on the cover(s) of the power center to identify the location of each sealed or locked short-circuit protection device. These labels will warn miners not to change or alter these short-circuit settings; (6) all future pump installations with excessive cable lengths will have a short-circuit survey conducted and items 1-6 will be implemented. A copy of each pumps short-circuit survey will be available at the mine site for inspection; (7) the petitioner's alternative method will not be implemented until miners who have been designated to examine the integrity of seals or locks, verify the short-circuit settings, and proper procedures for examining trailing cables for defects and damage have received the elements of training herein; and (8) within sixty (60) days after this petition is granted, proposed revisions for approved 30 CFR Part 48 training plan will be submitted to the District Manager for the area in which the mine is located. The training will include the following elements: (a) Training in mining methods and operating procedures that will protect the trailing cables against damage; (b) training in the proper procedures for examining the trailing cables to ensure the cables are in safe operating condition; (c) training in hazards of settings the instantaneous circuit breakers too high to adequately protect the trailing cables; and (d) training in how to verify the circuit interrupting device(s) protecting the trailing cable(s) are properly set and maintained. The petitioner asserts that the procedures of 30 CFR 48.3 for approval of proposed revisions to already approved training plans will apply, and the proposed alternative method will at all times guarantee no less than the same measure of protection to all miners at Blue Diamond Coal Company provided by the existing standard.

Docket Number: M-2010-010-C.

Petitioner: Leeco Coal Company, P.O. Box 47, Slemp, Kentucky 41763.

Mine: No. 68 Mine, MSHA I. D. No. 15-17497, located in Perry County, Kentucky.

Regulation Affected: 30 CFR 75.503 (Permissible electric face equipment; maintenance)

Modification Request: The petitioner requests a modification of the existing standard to permit an increase in the maximum length of trailing cables supplying power to permissible pumps. The petitioner states that: (1) This petition will apply only to trailing cables supplying three-phase, 480-volt power for permissible pumps; (2) the maximum length of the 480-volt power for permissible pumps will be 4,400 feet; (3) all circuit breakers used to protect trailing cables exceeding the pump approval length or Table 9 of Part 18 will have an instantaneous trip unit calibrated to trip at 75% of phase to phase short-circuit current. The trip setting of these circuit breakers will be sealed or locked, and will have permanent, legible labels. Each label will identify the circuit breaker as being suitable for protecting the trailing cables, and the label will be maintained legible. In instances where 75% instantaneous set point will not allow a pump to start due to motor inrush, a thermal magnetic breaker will be furnished. The thermal rating of the circuit breaker will be no greater than 75% of the available short-circuit current and the instantaneous setting will be adjusted one setting above the motor inrush trip point. This setting will also be sealed or locked; (4) replacement instantaneous trip units used to protect pump trailing cables exceeding the length of item #4 will be calibrated to trip at 75% of the available phase to phase short-circuit current and this setting will be sealed or locked; (5) permanent warning labels will be installed and maintained on the cover(s) of the power center to identify the location of each sealed or locked short-circuit protection device. These labels will warn miners not to change or alter these short-circuit settings; (6) all future pump installations with excessive cable lengths will have a short-circuit survey conducted and items 1-6 will be implemented. A copy of each pumps short-circuit survey will be available at the mine site for inspection; (7) the petitioner's alternative method will not be implemented until miners who have been designated to examine the integrity of seals or locks, verify the short-circuit settings, and proper procedures for examining trailing cables for defects and damage have received the elements of training herein; (8) within sixty (60) days after this petition is granted, proposed revisions for approved 30 CFR Part 48 training plan will be submitted to the District Manager for the area in which the mine is located. The training will include the following elements: (a) Training in mining methods and operating procedures that will protect the trailing cables against damage; (b) training in the proper procedures for examining the trailing cables to ensure the cables are in safe operating condition; (c) training in hazards of settings the instantaneous circuit breakers too high to adequately protect the trailing cables; and (d) training in how to verify the circuit interrupting device(s) protecting the trailing cable(s) are properly set and maintained. The petitioner asserts that the procedures of 30 CFR 48.3 for approval of proposed revisions to already approved training plans will apply, and the proposed alternative method will at all times guarantee no less than the same measure of protection to all miners at Leeco Coal Company provided by the existing standard.

Dated: March 12, 2010.
Patricia W. Silvey,
Director, Office of Standards, Regulations and Variances.

[FR Doc. 2010-5785 Filed 3-16-10; 8:45 am]

BILLING CODE 4510-43-P